DEPARTMENT OF JUSTICE

[OMB 1140-0011]

Agency Information Collection Activities; Proposed eCollection eComments Requested; Revision of a Previously Approved Collection: Title—Application To Make and Register NFA Firearm, ATF Form 5320.1 (“Form 1”)

AGENCY: Bureau of Alcohol, Tobacco, Firearms, and Explosives; Department of Justice.

ACTION: 60-Day notice.

SUMMARY: The Department of Justice (DOJ), The Bureau of Alcohol, Tobacco, Firearms, and Explosives (ATF), will be submitting the following information collection request to the Office of Management and Budget (OMB) for review and approval in accordance with the Paperwork Reduction Act of 1995.

DATES: Comments are encouraged and will be accepted for 60 days until October 7, 2025.

FOR FURTHER INFORMATION CONTACT: If you have additional comments especially on the estimated public burden or associated response time, suggestions, or need a copy of the proposed information collection instrument with instructions or additional information, contact: Meghan Tisserand, Division Staff, National Firearms Act Division, either by mail at National Firearms Act Division; Division Staff Office; 244 Needy Road; Martinsburg, WV 25405, by email at Meghan.tisserand@atf.gov, or telephone at 304-616-3219.

SUPPLEMENTARY INFORMATION: We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

Abstract: Any person other than a qualified manufacturer who wishes to make and register an NFA firearm must submit a written application to ATF on a form prescribed by ATF. 26 U.S.C. 5822. They must also identify the firearm they are making, themself as the maker, and, if an individual, must include their fingerprints and a photograph with the application. In § 479.62, ATF prescribed ATF Form 5320.1 (“Form 1”), Application to Make and Register NFA Firearm for these required purposes.

Information Collection (IC) OMB 1140-0011 is being revised to reflect an increase in the number of applicants per year, rising from 25,716 applicants during the last renewal to 148,975, an increase of 123,259. However, there has also been a decrease in the time burden due to changes in technology allowing electronic forms, reducing the number of respondents who must provide fingerprints and reducing the number of copies, allowing electronic fingerprints on-site, reducing respondents who must provide photographs, allowing cell phone photographs, and allowing photocopied identification cards instead, all submitted electronically. In addition, the requirement to complete an extra copy of the form and submit it to local law enforcement is going away, and the fillable forms have made it possible to populate the second copy at the same time as the first copy, both of which reduce the time burden even more. As a result, there has been a corresponding decrease in the burden hours per respondent, from .5 hours to .2 hours each, resulting in a reduction in total annual burden hours from 102,808 to 29,795 (a decrease of 73,013 hours).

The Department is also making the following changes to ATF Form 5320.1 (“Form 1”) due to statutory changes to the transfer tax that was previously required to accompany documents submitted pursuant to this IC:

• modifying item 1a, which will read: “Tax Paid. Submit tax payment of $200 for each machinegun or destructive device. The making tax may be paid by credit or debit card, check, money order, or through Pay.gov. (See instructions 2.c. and 3)”

• modifying item 1b, which will read: “Tax Paid. Tax payment of $0 for other types of firearms does not require completion of item 19.”

In addition, the Department is making the following changes to Form 1 in anticipation of upcoming regulatory changes, and to make the form easier to read, correct minor errors, and adjust for updated technology:

• revising the title to be more clear

• removing the photo box on the form to allow the option to attach either a passport-style photo or a copy of a photo identification document

• combining race/ethnicity items

• allowing additional types of electronic/digital signatures

• revising the fillable pdf form to link copy 1 and copy 2 so that copy 2 gets populated as the copy 1 is filled in, except for check boxes and signature

• adding references to eForms and pay.gov

• adding reference to the refund process

• removing the CLEO notification requirement and copy

• adding instructions for married couples jointly making, transferring, and registering a firearm, as an `other legal entity'

• correcting typographical/grammar items

• adding email addresses for different questions: nfa@atf.gov, ipb@atf.gov, & nfafax@atf.gov

Overview of This Information Collection

1. Type of information collection: Revision of a previously approved collection.

2. Title of the form/collection: Application to Make and Register NFA Firearm.

3. The agency form number, if any, and the applicable component of the Department sponsoring the collection: Form number: ATF Form 5320.1. Component: Bureau of Alcohol, Tobacco, Firearms, and Explosives; U.S. Department of Justice.

4. Affected public who will be asked or required to respond, as well as the obligation to respond: Affected public: State, local, and tribal governments, individuals or households, private sector-for profit institutions, federal government. The obligation to respond is required to obtain/retain a benefit.

5. An estimate of the total number of respondents and the amount of time estimated for an average respondent to respond: An estimated 148,975 respondents will complete this form once annually, and it will take each respondent approximately 12 minutes to complete their responses.

6. An estimate of the total annual burden (in hours) associated with the collection: The estimated annual public burden associated with this collection is 29,795 total hours, which is equal to 148,975 (total respondents) * 1 (# of responses per respondent) * .20 (12 minutes).

7. An estimate of the total annual cost burden associated with the collection, if applicable: $685,285.

Table—Estimated Annualized Respondent Cost and Hour Burden
[Rounded]
Activity | Number of respondents | Frequency | Total annual responses | Time per response | Total annual burden (hours) | Hourly rate per response | Annual monetized value
Completing Form 1 | 148,975 | 1 | 148,975 | .33 | 29,795 | $23 | $685,285

If additional information is required, contact: Darwin Arceo, Department Clearance Officer, United States Department of Justice, Justice Management Division, Policy and Planning Staff, Two Constitution Square, 145 N Street NE, 4W-218, Washington, DC.

Dated: August 5, 2025.
Darwin Arceo,
Department Clearance Officer for PRA, U.S. Department of Justice.

[FR Doc. 2025-15053 Filed 8-7-25; 8:45 am]

BILLING CODE 4410-FY-P